DEPARTMENT OF DEFENSE

GENERAL SERVICES ADMINISTRATION

NATIONAL AERONAUTICS AND SPACE ADMINISTRATION

[OMB Control No. 9000-0090]

Federal Acquisition Regulation; Information Collection; Rights in Data and Copyrights; Correction

AGENCIES: Department of Defense (DOD), General Services Administration (GSA), and National Aeronautics and Space Administration (NASA).

ACTION: Notice; correction.

SUMMARY: This notice is issued to correct the annual recordkeeping burden published for Information Collection Number 9000-0090, Rights in Data and Copyrights, in the Federal Register at 72 FR 28687, May 22, 2007.

FOR FURTHER INFORMATION CONTACT: Ernest Woodson, Contract Policy Division, GSA (202) 501-3775.

Correction

In the Federal Register of May 22, 2007, in FR Doc. 07-2524, on page 28688, in the second column, correct paragraph C. to read as follows:

C. Annual Recordkeeping Burden

The annual recordkeeping burden is estimated as follows:

Recordkeepers: 9,000.

Hours Per Recordkeeper: 2.

Total Recordkeeping Burden Hours: 18,000.

Dated: June 22, 2007.
Diedra Wingate,
Supervisor, Regulatory Secretariat.

[FR Doc. 07-3154 Filed 6-27-07; 8:45 am]

BILLING CODE 6820-EP-S